DEPARTMENT OF STATE

[Public Notice: 7254]

Bureau of Educational and Cultural Affairs (ECA) Request for Grant Proposals: Youth Ambassadors Program With South America

Announcement Type: New Cooperative Agreement.

Funding Opportunity Number: ECA/PE/C/PY-11-18.

Catalog of Federal Domestic Assistance Number: 19.415.

Application Deadline: January 27, 2011.

Executive Summary

The Office of Citizen Exchanges, Youth Programs Division, of the Bureau of Educational and Cultural Affairs (ECA) announces an open competition for the Youth Ambassadors Program with South America. Public and private non-profit organizations meeting the provisions described in Internal Revenue Code section 26 U.S.C. 501(c)(3) may submit proposals to recruit and select youth and adult participants, to provide the participants with three-week exchanges focused on civic education, community service, and youth leadership development, and to support follow-on projects in their home communities. Exchange delegations will travel from 10 South American countries to the United States, and U.S. exchange delegations will travel to select countries. ECA anticipates awarding multiple cooperative agreements that cover the administration of this program for two years. The awards will be contingent upon the availability of FY-2011 funds.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Overview

The Youth Ambassadors Program is a three-week exchange for high school youth (ages 15-18) and adult educators focused on civic education, community service, and youth leadership development. Subthemes that explore these overarching themes may be added, such as the environment or business and entrepreneurship. Participants engage in a variety of activities such as workshops on leadership and service, community site visits related to the program themes and subthemes, interactive training, presentations, visits to high schools, local cultural activities, civic education programming in Washington, DC or the capital city of the partner country, and other activities designed to achieve the program's stated goals. Multiple opportunities for participants to interact meaningfully with their peers of the host country must be included. Follow-on activities with the participants are an integral part of the program, as the students apply the knowledge and skills they have acquired by planning service projects in their home communities.

The FY2011 Youth Ambassadors Program will focus on the following countries: Argentina, Bolivia, Brazil, Chile, Colombia, Ecuador, Paraguay, Peru, Uruguay, Venezuela, and the United States. It is anticipated that foreign participants will travel from all of these countries to the United States, and that American participants will travel to select countries.

The goals of the program are to:

(1) Promote mutual understanding between the people of the United States and the people of South America;

(2) Prepare youth leaders to become responsible citizens and contributing members of their communities;

(3) Influence the attitudes of the leaders of a new generation; and

(4) Foster relationships among youth from different ethnic, religious, and national groups and create hemispheric networks of youth leaders, both within the participating countries and internationally.

The objectives of the program are for participants to:

(1) Demonstrate a better understanding of the elements of a participatory democracy as practiced in the United States;

(2) Demonstrate critical thinking and leadership skills; and

(3) Demonstrate skill at developing project ideas and planning a course of action to bring the projects to fruition.

The primary themes of the program are:

(1) Civic Education (Citizen Participation, Grassroots Democracy and Rule of Law);

(2) Community Service; and

(3) Youth Leadership Development.

For each project, applicant organizations must focus on these primary themes. Secondary themes, such as the environment or business and entrepreneurship, will serve to illustrate the more abstract concepts of the primary themes. For example, the secondary theme of the environment can be used to examine how a group of individuals with an idea can start a recycling campaign in their community.

Using these goals, objectives, and themes, applicant organizations should identify their own specific and measurable outputs and outcomes based on the project specifications provided in this solicitation. ECA does not anticipate award recipients achieving these overarching goals throughout one project; however, proposals should indicate how these objectives will be reached through these themes, and how they will contribute to the achievement of the stated goals.

Project Options

The total amount of funding available is $3,000,000, pending availability of funds. ECA anticipates awarding multiple cooperative agreements for the management of the Youth Ambassadors Program with South America that together will cover all 10 countries. The Bureau reserves the right to reduce, revise, or increase proposal project configurations, budgets, and participant numbers in accordance with the needs of the program and the availability of funds. In addition, the Bureau reserves the right to adjust the participating countries should conditions change in the partner country or if other countries are identified as Department priorities. Organizations may apply for one, two, or three of the options outlined below, but must submit only one proposal under this competition. Multiple submissions will be declared technically ineligible and will not be considered further in the review process. These options will allow applicants the flexibility to propose working with the countries in which they have the best infrastructure. The Bureau strongly urges organizations to focus their applications on countries where they have the strongest organizational capacity. This capacity must be thoroughly described in the proposal. Please note the total approximate funding for each option.

Option 1: Argentina, Bolivia, Chile, Paraguay, Peru, Uruguay, and Venezuela (Approximately $2,000,000 Total, With One to Four Awards)

A project conducted in English for participants from Argentina, Bolivia, Chile, Paraguay, Peru, Uruguay, and/or Venezuela. Approximately 15-20 participants from each country will travel to the United States each year. Award recipients are encouraged to send delegations that include participants from several countries; however not all delegations must travel to the United States at the same time. It is suitable to break them down into smaller single country or sub-regional groups. Applicants who plan to send a large delegation to the United States at one time must propose a plan to break it into smaller cohorts for most of the exchange activities. In addition to the South American participants, 10-15 participants from the United States will travel to Paraguay and/or Uruguay each year. Delegations of American participants may alternate between specified countries and travel to Uruguay the first year and Paraguay the following year, or delegations may travel to both countries each year. The American participants should have conversational Spanish skills. Applicants are encouraged to be creative and flexible in making arrangements that will help meet our program goals.

ECA may award more than one cooperative agreement from this option. Applicants must include at least two South American countries, and may include up to all seven countries, in their proposals. Applicants should apply for those countries where they have a strong organizational capacity with their in-country partner.

Option 2: Colombia and Ecuador (Approximately $500,000)

A regional project conducted in Spanish for participants from Colombia and Ecuador. Approximately 15-20 participants from each country will travel to the United States each year. This regional project should include activities where participants from both countries interact to share ideas and work on program themes during the exchange in the United States. Delegations may be broken up into smaller sub-groups, but should keep a mix of participants from both countries. Special emphasis should be placed on recruiting participants from underserved communities. Spanish language interpreters should be provided for U.S. programming. In addition to the South American participants, 10-15 participants from the United States may travel to Ecuador. The American participants should have conversational Spanish skills.

Option 3: Brazil (Approximately $500,000)

A single country, reciprocal project conducted in English for participants from Brazil and the United States. The total number of participants each year will be 37 Brazilians (35 youth, 2 adults) and 10-15 Americans. For the Brazil project only, the U.S. Embassy in Brasilia will serve as the in-country partner. The Embassy will manage the recruitment and selection of the Brazilian participants, cover their in-country expenses, arrange and purchase the international travel, oversee their follow-on activities, and administer the Brazil-based exchange activities for the U.S. participants. The award recipient will be responsible for organizing and funding the U.S.-based exchange activities for the Brazilian participants. The recipient will also be responsible for recruiting and selecting the American participants and covering their pre-departure expenses, including passports and visas fees and international travel, paying for all program expenses in Brazil, as well as managing their follow-on activities. The exchanges to the U.S. will take place in January 2012 and January 2013, and the exchanges to Brazil will take place in the summer of 2012 and 2013.

Participants

Both the youth and adult participants must meet the following eligibility requirements:

(1) Be citizens of the country from which they are applying;

(2) Be selected through a merit-based competition;

(3) Represent the diversity of their home country; and

(4) Demonstrate an interest in the partner country and the project themes.

Criteria for selection of the participants will include leadership skills, an interest in service to the community, strong academic and social skills, openness and flexibility. To reach beyond the elite, participants should be recruited from underserved or disadvantaged populations of youth in these countries, including public high schools. Geographic, socio-economic, and ethnic diversity is important, including outreach to indigenous and Afro-descendent populations. It is desirable that a few participants live in the same community to facilitate future collaboration upon their return to their home country.

The youth participants must be high school students aged 15 to 18 years old, with at least one semester of high school remaining. The adult participants may be teachers, trainers, school administrators, and/or community leaders who work with youth. They will have the dual role of both exchange participant and chaperone. The ratio of youth to adults should be approximately 10:1, depending on the size of the exchange delegation.

Except for participants from Colombia and Ecuador, all South American participants must have sufficient English language proficiency to participate fully in interactions with their host families and their peers and in educational activities. A similar level of Spanish language ability is required for the American participants traveling to Ecuador, Paraguay and Uruguay. Portuguese is not required for the Americans traveling to Brazil. For the U.S.-based activities that will be conducted in Spanish, the award recipient must provide interpretation and place the participants in host families where at least one member speaks Spanish.

Organizational Capacity

Applicant organizations must demonstrate their capacity for conducting international youth exchanges, focusing on three areas of competency: (1) Provision of projects that address the goals, objectives, and themes outlined in this document; (2) age-appropriate programming for youth; and (3) previous experience working on programs in the region. Organizations must demonstrate their capacity to manage a complex, multi-phase program with several separate exchange projects.

In addition to their U.S. presence, applicants must have the organizational capacity in the relevant countries through their own offices or through a partner organization or institution to recruit and select participants for the project, to provide follow-on activities, and to organize a content-rich program for the U.S. participants, if specified. The importance of a viable, experienced in-country partner cannot be over-emphasized. Applicants should consult with their partners and involve them in the preparation of the proposal. Before submitting a proposal, applicants may consult with Public Affairs Sections in U.S. Embassies for suggested partner organizations or concerning the selection and reliability of in-country partner organizations. Please e-mail ECA Program Officer Jennifer Phillips (PhillipsJA@state.gov) for Embassy contact information.

U.S. Embassy Involvement

It is important that the proposal narrative clearly state the applicant's commitment to consult closely with the Public Affairs Section of the U.S. Embassy in the host country to develop plans for project implementation, including recruitment, selection and orientation of participants, publicity events, and follow-on activities, once a cooperative agreement is awarded. In countries where there is a reciprocal component involving U.S. citizen minors, the U.S. Embassy will provide oversight and monitoring; concur on housing arrangements, including host family locations (regions, neighborhoods); represent the U.S. Government while the exchange activities are taking place in the host country; and assist program staff and participants in the event of an emergency. At the same time, the cooperative agreement requires that the administering organization must be able to manage the program in the host country in its entirety, with little reliance on embassy staff for support. For the Brazil project only, the U.S. Embassy in Brasilia will serve as the in-country partner.

Guidelines

Pending the availability of funds, it is anticipated that the cooperative agreement will begin on or about July 1, 2011. The award period will span approximately two years, and will cover all aspects of the programming in South America and the United States—recruitment, selection, and orientation of the participants, three weeks of exchange activities, and support of follow-on activities. Planning and preparation will start in 2011, and the exchanges will take place at various points throughout 2012 and 2013. Applicants should propose the period of the exchange(s) in their proposals, but the exact timing of the project may be altered through the mutual agreement of the Department of State and the recipient. In addition, while the second year of the award period may build on lessons learned from the first year, proposals should include a plan for keeping the essential elements of the exchange, from project themes to regional groupings, the same in the second year.

The award recipient will be responsible for the following:

Recruitment and Selection: Manage the recruitment and merit-based selection of youth and adult participants in cooperation with the Public Affairs Sections of the U.S. Embassies in the participating countries. Collaboration with Binational Centers (BNCs) is suggested, if possible. Once a cooperative agreement is awarded, the recipient must consult with the Public Affairs Section at the U.S. Embassy to review a participant recruitment and selection plan and to determine the degree of Embassy involvement in the process. Organizers must strive for regional, socio-economic, and ethnic diversity, as well as gender balance. For reciprocal projects sending U.S. participants to South America, the recipients must manage the recruitment and open, merit-based selection of U.S. participants. The Department of State and/or its overseas representatives will have final approval of all selected delegations.

Orientations: Provide orientations for exchange participants and for those participating from the host communities, including host families.

Logistics: Manage all logistical arrangements, including passport and visa applications, international and domestic travel, ground transportation, accommodations, interpretation, group meals, and disbursement of stipends.

Exchange Activities: Design and plan three weeks of exchange activities that provide a creative and substantive program that develops both the youth and the adult participants' knowledge and skill base in civic education, community service, and youth leadership development. The exchange will take place in the capital city (Washington, DC or that of the host country) and in one or two other communities. The exchanges will focus primarily on interactive activities, practical experiences, and other hands-on opportunities that provide a substantive project on the specified program themes. Some activities should be school and/or community-based, and the projects will involve as much sustained interaction with peers of the host country as possible (for both the youth and adult participants). Cultural, social, and recreational activities will balance the schedule.

Accommodations: Arrange home stays for the participants in the United States with properly screened and briefed American families for the majority of the exchange period. In the partner countries, home stays are strongly desired whenever feasible in properly screened and briefed South American families. Criminal background checks must be conducted for members of host families (and others living in the home) who are 18 years or older.

Monitoring: Develop and implement a plan to monitor the participants' safety and well-being while on the exchange and to create opportunities for participants to share potential issues and resolve them promptly. The award recipient will be required to provide proper staff supervision and facilitation to ensure that the teenagers have safe and pedagogically rich programs. Staff, along with the adult participants, will assist the youth with cultural adjustments, provide societal context to enhance learning, and counsel students as needed. For the safety and security of both foreign and American participants, applicants must comply with the monitoring and supervision requirements, as well as the host family screening requirements, outlined in the POGI.

Follow-on Activities and In-Country Programming: Plan and implement activities in the participants' home countries, particularly by facilitating continued engagement among the participants, advising and supporting them in the implementation of community service projects, and offering opportunities to reinforce the ideas, values and skills imparted during the exchange. Exchange participants should return home from the exchange prepared to conduct projects that serve a need in their schools or communities. To amplify program impact, proposals should present creative and effective ways to address the project themes, for both program participants and their peers.

Evaluation: Design and implement an evaluation plan that assesses the short- and medium-term impact of the project on the participants as well as on host and home communities.

Please Note: In a cooperative agreement, the Department of State is substantially involved in program activities above and beyond routine grant monitoring. The Department's activities and responsibilities for the Youth Ambassadors Program are as follows:

(1) Provide advice and assistance in the execution of all program components.

(2) Facilitate interaction within the Department of State, to include ECA, the regional bureaus, and overseas posts.

(3) Arrange meetings with Department of State officials in Washington, DC and the partner countries.

(4) Approve the final candidate selection and alternates.

(5) Issue DS-2019 forms and J-1 visas for the foreign participants. All foreign participants will travel on a U.S. Government designation for the J Exchange Visitor Program.

(6) Approve applications, publicity materials, and final calendar of exchange activities.

(7) Approve housing arrangements, including the host families location (in South America only).

(8) Monitor and evaluate the program, through regular communication with the award recipient and possibly one or more site visits.

(9) In Brazil only, the U.S. Embassy will serve as the in-country partner and manage the recruitment and selection of the Brazilian participants, cover their in-country expenses, arrange and purchase the international travel, oversee their follow-on activities, and administer the Brazil-based exchange activities for the U.S. participants.

Additional Information

Award recipients will retain the name “Youth Ambassadors Program” to identify their project. All materials, publicity, and correspondence related to the program will acknowledge this as a program of the Bureau of Educational and Cultural Affairs of the U.S. Department of State. The Bureau will retain copyright use of and be allowed to distribute materials related to this program as it sees fit.

The organization must inform the ECA Program Officer of their progress at each stage of the project's implementation in a timely fashion, and will be required to obtain approval of any significant program changes in advance of their implementation.

Proposals must demonstrate how the stated objectives will be met. The proposal narrative should provide detailed information on the major project activities, and applicants should explain and justify their programmatic choices. Projects must comply with J-1 visa regulations for the International Visitor and Government Visitor category. Please be sure to refer to the complete Solicitation Package—this RFGP, the Project Objectives, Goals, and Implementation (POGI), and the Proposal Submission Instructions (PSI)—for further information.

II. Award Information

Type of Award: Cooperative Agreement. ECA's level of involvement in this program is listed under Section I above.

Fiscal Year Funds: FY-2011.

Approximate Total Funding: $3,000,000.

Approximate Number of Awards: One to six.

Approximate Average Award: $500,000.

Floor of Award Range: $500,000.

Ceiling of Award Range: $3,000,000.

Anticipated Award Date: Pending availability of funds, July 1, 2011.

Anticipated Project Completion Date: 24-34 months after start date, to be specified by applicant based on project plan.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Bureau grant guidelines require that organizations with less than four years experience in conducting international exchanges be limited to $60,000 in Bureau funding. ECA anticipates making multiple awards in amounts exceeding $60,000 to support program and administrative costs required to implement this exchange program. Therefore, organizations with less than four years experience in conducting international exchanges are ineligible to apply under this competition. The Bureau encourages applicants to provide maximum levels of cost sharing and funding in support of its programs.

(b.) Proposed sub-award recipients are also limited to grant funding of $60,000 or less if they do not have four years of experience in conducting international exchanges.

(c.) The Bureau encourages applicants to provide maximum levels of cost sharing and funding in support of its programs.

(d.) Organizations may submit only one proposal (total) under this competition. If multiple proposals are received from the same applicant, all submissions will be declared technically ineligible and will be given no further consideration in the review process. Please note: Applicant organizations are defined by their legal name, and EIN number as stated on their completed SF-424 and additional supporting documentation outlined in the Proposal Submission Instructions (PSI) document.

IV. Application and Submission Information

Note: Please read the complete announcement before sending inquiries or submitting proposals. Once the RFGP deadline has passed, Bureau staff may not discuss this competition with applicants until the proposal review process has been completed.

IV.1 Contact Information To Request an Application Package

Please contact the Youth Programs Division, ECA/PE/C/PY, SA-5, 3rd Floor, U.S. Department of State, 2200 C Street, NW., Washington, DC 20037, by telephone (202) 632-9352, fax (202) 632-9355, or e-mail PhillipsJA@state.gov to request a Solicitation Package. Please refer to the Funding Opportunity Number ECA/PE/C/PY-11-18 located at the top of this announcement when making your request.

Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

Please specify Program Officer Jennifer Phillips and refer to the Funding Opportunity Number ECA/PE/C/PY-11-18 located at the top of this announcement on all other inquiries and correspondence.

IV.2. To Download a Solicitation Package via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing The J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving awards (either a grant or cooperative agreement) under this RFGP will be third parties “cooperating with or assisting the sponsor in the conduct of the sponsor's program.” The actions of recipient organizations shall be “imputed to the sponsor in evaluating the sponsor's compliance with” 22 CFR 62. Therefore, the Bureau expects that any organization receiving an award under this competition will render all assistance necessary to enable the Bureau to fully comply with 22 CFR 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification. Please refer to the Solicitation Package (POGI and PSI) for complete budget guidelines and formatting instructions.

IV.3f. Application Deadline and Methods of Submission

Application Deadline Date: January 27, 2011.

Reference Number: ECA/PE/C/PY-11-18.

Methods of Submission

Applications may be submitted in one of two ways:

(1.) In hard-copy, via a nationally recognized overnight delivery service (i.e., Federal Express, UPS, Airborne Express, or U.S. Postal Service Express Overnight Mail, etc.), or

(2.) electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and six (6) copies of the application should be sent to: Program Management Division, ECA-IIP/EX/PM, Ref.: ECA/PE/C/PY-11-18, SA-5, Floor 4, Department of State, 2200 C Street, NW., Washington, DC 20037.

With the submission of the proposal package, please also e-mail the Executive Summary, Proposal Narrative, and Budget sections of the proposal, as well as any attachments essential to understanding the program, in Microsoft Word, Excel, and/or PDF, to the program officer at PhillipsJA@state.gov. As appropriate, the Bureau will provide these files electronically to Public Affairs Section(s) at the U.S. embassies for their review.

IV.3f.2—Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible. Please refer to the Grants.gov Web site, for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below.

1. Quality of the program idea: Objectives should be reasonable, feasible, and flexible. The proposal should clearly demonstrate how the institution will meet the program's objectives and plan. The proposed program should be creative, age-appropriate, respond to the design outlined in the solicitation, and demonstrate originality. It should be clearly and accurately written, substantive, and with sufficient detail. Proposals should also include a plan to support participants' community activities upon their return home.

2. Program planning: A detailed agenda and work plan should clearly demonstrate how project objectives would be achieved. The agenda and plan should adhere to the program overview and guidelines described above. The substance of workshops, seminars, presentations, school-based activities, and/or site visits should be described in detail.

3. Support of diversity: The proposal should demonstrate the recipient's commitment to promoting the awareness and understanding of diversity in participant recruitment and selection and in program content. Applicants should demonstrate readiness to accommodate participants with physical disabilities.

4. Institutional capacity and track record: Proposed personnel and institutional resources in both the United States and in the partner countries should be adequate and appropriate to achieve the program goals. The proposal should demonstrate an institutional record of successful exchange programs, including responsible fiscal management and full compliance with all reporting requirements for past Bureau awards as determined by Bureau Grants Staff. The Bureau will consider the past performance of prior recipients and the demonstrated potential of new applicants.

5. Program evaluation: The proposal should include a plan to evaluate the program's success in meeting its goals, both as the activities unfold and after they have been completed. The proposal should include a draft survey questionnaire or other technique, plus a description of a methodology to link outcomes to original project objectives. The award recipient will be expected to submit intermediate reports after each project component is concluded.

6. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions, which demonstrates institutional and community commitment.

VI. Award Administration Information

VI.1 Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants. http://fa.statebuy.state.gov.

VI.3 Reporting Requirements

You must provide ECA with a hard copy original plus one copy of the following reports:

(1) A final program and financial report no more than 90 days after the expiration of the award;

(2) A concise, one-page final program report summarizing program outcomes no more than 90 days after the expiration of the award. This one-page report will will be transmitted to OMB, and be made available to the public via OMB's USAspending.gov Web site—as part of ECA's Federal Funding Accountability and Transparency Act (FFATA) reporting requirements.

(3) A SF-PPR, “Performance Progress Report” Cover Sheet with all program reports, including the SF-PPR-E and SF-PPR-F.

(4) Quarterly or interim reports, as required in the Bureau cooperative agreement.

Award recipients will be required to provide reports analyzing their evaluation findings to the Bureau in their regular program reports. (Please refer to IV.3.d.3 Application and Submission Instructions above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Jennifer Phillips, Youth Programs Division, ECA/PE/C/PY, SA-5, 3rd Floor, U.S. Department of State, 2200 C Street, NW., Washington, DC 20522-0503, by telephone 202-632-9352, fax 202-632-9355, or e-mail PhillipsJA@state.gov.

All correspondence with the Bureau concerning this RFGP should reference the above title and reference number ECA/PE/C/PY-11-18.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 23, 2010.
Ann Stock,
Assistant Secretary for Educational and Cultural Affairs, Department of State.

[FR Doc. 2010-30241 Filed 12-1-10; 8:45 am]

BILLING CODE 4710-05-P